DEPARTMENT OF COMMERCE

International Trade Administration

[A-570-825]

Sebacic Acid From the People's Republic of China; Final Results of the Expedited Sunset Review of Antidumping Duty Order; Final Results

AGENCY: Import Administration, International Trade Administration, Department of Commerce.

ACTION: Expedited sunset review of antidumping duty order on sebacic acid from the People's Republic of China; final results.

SUMMARY: On April 1, 2004, the Department of Commerce (“the Department”) initiated a sunset review of sebacic acid from the People's Republic of China (“China”).¹ On the basis of the notice of intent to participate, adequate substantive comments filed on behalf of the domestic interested parties, and an inadequate response (in this case, no response) from respondent interested parties, the Department determined to conduct an expedited sunset review. As a result of this review, the Department finds that revocation of the antidumping duty order would likely lead to continuation or recurrence of dumping at the levels listed below in the section entitled “Final Results of Review.”

¹ See Initiation of Five-Year (Sunset) Reviews, 69 FR 17129 (April 1, 2004) (“Initiation Notice”).

DATES: Effective August 6, 2004.

FOR FURTHER INFORMATION CONTACT: Martha V. Douthit, Office of Policy, Import Administration, International Trade Administration, U.S. Department of Commerce, 14th Street and Constitution Avenue, NW., Washington, DC, 20230; telephone: (202) 482-5050.

SUPPLEMENTARY INFORMATION:

Background

On April 1, 2004, the Department initiated a sunset review of the antidumping duty order on sebacic acid from China pursuant to section 751(c) of the Tariff Act of 1930, as amended (the “Act”) (69 FR 17129). The Department received a notice of intent to participate on behalf of SST Materials Inc. d/b/a Genesis Chemicals, Inc. (“Genesis”), within the deadline specified in section 351.218(d)(1)(i) of the Department's Regulations. The domestic interested parties claimed interested party status under section 771(9)(C) of the Act as U.S. producers of sebacic acid. We received a complete response from Genesis within the 30-day deadline specified in the Department's regulations under section 351.218(d)(3)(i). We received no response from any interested party respondents in this proceeding. As a result, pursuant to section 751(c)(3)(B) of the Act and 19 CFR 351.218(e)(1)(ii)(C)(2), the Department conducted an expedited sunset review of this antidumping duty order.

This order remains in effect for all Chinese manufacturers, producers, and exporters, except for exporter, Tianjin Chemicals Import & Export Corporation with respect to subject merchandise produced by Hengshui.²

² Sebacic Acid From the People's Republic of China: Final Results of Antidumping Duty Administrative Review and Determination To Revoke Order in Part, 67 FR 69719 (November 19, 2002).

Scope of the Order

The products covered by this review are all grades of sebacic acid, a dicarboxylic acid with the formula (CH2)8(COOH)2, which include but are not limited to CP Grade (500 ppm maximum ash, 25 maximum APHA color), Purified Grade (1000 ppm maximum ash, 50 maximum APHA color), and Nylon Grade (500 ppm maximum ash, 70 maximum ICV color). The principal difference between the grades is the quantity of ash and color. Sebacic acid contains a minimum of 85 percent dibasic acids of which the predominant species is the C10 dibasic acid. Sebacic acid is sold generally as a free-flowing powder/flake. Sebacic acid has numerous industrial uses, including the production of nylon 6/10 (a polymer used for paintbrush and toothbrush bristles and paper machine felts), plasticizers, esters, automotive coolants, polyamides, polyester castings and films, inks and adhesives, lubricants, and polyurethane castings and coatings. Sebacic acid is currently classifiable under subheading 2917.13.00. of the Harmonized Tariff Schedule of the United States (“HTSUS”). Although the HTSUS subheading is provided for convenience and customs purposes, our written description of the scope of this proceeding is dispositive.

Analysis of Comments Received

All issues raised in this review are addressed in the “Issues and Decision Memorandum” (“Decision Memo”) from Ronald K. Lorentzen, Acting Director, Office of Policy, Import Administration, to James J. Jochum, Assistant Secretary for Import Administration, dated July 30, 2004, which is hereby adopted by this notice. The issues discussed in the Decision Memo include the likelihood of continuation or recurrence of dumping and the magnitude of the margin likely to prevail if the finding were to be revoked. Parties can find a complete discussion of all issues raised in this review and the corresponding recommendations in this public memo, which is on file in room B-099 of the main Commerce Building.

In addition, a complete version of the Decision Memo can be accessed directly on the Web at http://ia.ita.doc.gov/frn, under the heading “August 2004.” The paper copy and electronic version of the Decision Memo are identical in content.

Final Results of Review

We determine that revocation of the antidumping duty order on sebacic acid from China would be likely to lead to continuation or recurrence of dumping at the following percentage weighted-average percentage margins:

Manufacturers/exporters/producers | Weighted-average margin (percent)
Sinochem Jiangsu Import & Export Corporation | 85.48
Tianjin Chemicals Import & Export Corporation | Revoked
Guangdong Chemicals Import & Export Corporation | 57.00
Sinochem International Chemicals Company | 43.72
China-wide rate | 243.40

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: July 30, 2004.
James J. Jochum,
Assistant Secretary for Import Administration.

[FR Doc. 04-17935 Filed 8-5-04; 8:45 am]

BILLING CODE 3510-DS-P